DEPARTMENT OF THE INTERIOR

Fish and Wildlife Service

50 CFR Part 17

[FWS-R3-ES-2011-0025; MO 92210-0-0008-B2]

Endangered and Threatened Wildlife and Plants; 12-Month Finding on a Petition To List the Frigid Ambersnail as Endangered

AGENCY: Fish and Wildlife Service, Interior.

ACTION: Notice of 12-month petition finding.

SUMMARY: We, the Fish and Wildlife Service (Service), announce a 12-month finding on a petition to list the frigid ambersnail (Catinella gelida) under the Endangered Species Act of 1973, as amended (Act). After reviewing all available scientific and commercial information, we find that listing the frigid ambersnail is not warranted because currently living individuals that were identified as frigid ambersnails do not constitute a unique and valid, currently living taxon; therefore, it is not considered to be a listable entity under the Act.

DATES: The finding announced in this document was made July 26, 2011.

ADDRESSES: This finding is available on the Internet at http://www.regulations.gov at Docket Number FWS-R3-ES-2011-0025. The complete file for this finding is available for inspection, by appointment, during normal business hours at the U.S. Fish and Wildlife Service, Rock Island Ecological Services Field Office, 1511 47th Avenue, Moline, IL 61265; phone (309) 757-5800. Please submit any new information, materials, comments, or questions concerning this species or this finding to the above street address.

FOR FURTHER INFORMATION CONTACT: Jody Millar (see ADDRESSES).

Individuals who are hearing-impaired or speech-impaired may call the Federal Relay Service at 1-800-877-8337 for TTY assistance, 24 hours a day, 7 days a week.

SUPPLEMENTARY INFORMATION:

Background

Section 4(b)(3)(B) of the Act (16 U.S.C. 1531 et seq.) requires that, for any petition to revise the Federal Lists of Threatened and Endangered Wildlife and Plants that contains substantial scientific or commercial information that listing a species may be warranted, we make a finding within 12 months of the date of receipt of the petition. In this finding, we determine whether the petitioned action is: (a) Not warranted, (b) warranted, or (c) warranted, but immediate proposal of a regulation implementing the petitioned action is precluded by other pending proposals to determine whether species are endangered or threatened, and expeditious progress is being made to add or remove qualified species from the Federal Lists of Endangered and Threatened Wildlife and Plants. Section 4(b)(3)(C) of the Act requires that we treat a petition for which the requested action is found to be warranted but precluded as though resubmitted on the date of such finding, that is, requiring a subsequent finding to be made within 12 months. We must publish these 12-month findings in the Federal Register.

Previous Federal Actions

Federal action for the frigid ambersnail began on July 30, 2007, after we received a petition dated July 24, 2007, from Forest Guardians (now WildEarth Guardians) requesting that the Service: (1) Consider all full species in our mountain-prairie region ranked as G1 or G1G2 by the organization NatureServe, except those that are currently listed, proposed for listing, or candidates for listing; and (2) list each species as either endangered or threatened (Forest Guardians 2007, pp. 1-37). We acknowledged the receipt of the petition in a letter to the Forest Guardians, dated August 24, 2007 (Slack 2007, p. 1). In that letter we stated, based on preliminary review, that we found no compelling evidence to support an emergency listing for any of the species covered by the petition.

On March 19, 2008, WildEarth Guardians filed a complaint (1:08-CV-472-CKK) indicating that the Service had failed to make 90-day petition findings under section 4 of the Act for the 206 mountain-prairie species, including the frigid ambersnail. On February 5, 2009, we published a 90-day finding (74 FR 6122) for 165 of the 206 mountain-prairie species, which did not include the frigid ambersnail. On March 13, 2009, the Service and WildEarth Guardians filed a stipulated settlement in the District of Columbia Court, agreeing that the Service would submit to the Federal Register a finding as to whether WildEarth Guardians' petition presented substantial information indicating that the petitioned action may be warranted for 38 mountain-prairie region species by August 9, 2009 (WildEarth Guardians v. Salazar 2009, case 1:08-CV-472-CKK). On August 18, 2009, we published a 90-day finding (74 FR 41649) for 38 mountain-prairie region species, and initiated status reviews on 29 of those species, including the frigid ambersnail.

On January 8, 2010, WildEarth Guardians filed a complaint indicating that the Service had failed to complete a 12-month finding on the frigid ambersnail, and on January 20, 2010, they filed an amended complaint. On June 29, 2010, this complaint was consolidated in the District of Columbia District Court along with 11 other individual cases filed by WildEarth Guardians, all related to multiple-species petitions. This litigation is currently unresolved.

This notice constitutes the 12-month finding on the July 24, 2007, petition to list the frigid ambersnail as endangered.

Range

The frigid ambersnail is a prehistoric snail known from the Pleistocene period, which spanned from 1.8 million to approximately 10,000 years ago. The species has an extensive fossil record. Based on that fossil record, its historical range included eight states: Iowa, Illinois, Indiana, Louisiana, Mississippi, Missouri, Ohio, and New York (Frest 1991, p. 17). Individuals, that at the time were thought to be living specimens of frigid ambersnails, were subsequently found in the Black Hills of South Dakota and south of Green Bay in Wisconsin (Frest and Johannes 2002, pp. 73-74). Current, putative populations are only now known from Iowa, the Black Hills National Forest of South Dakota and, possibly, Wisconsin. Currently, taxonomy regarding these extant populations is unclear as to whether these are frigid ambersnails (as described from the prehistoric fossils) or members of a different, likely more common, taxon.

Taxonomy

Catinella gelida was initially described as a widespread prehistoric fossil. The genus Catinella belongs to phylum Mollusca, class Gastropoda, order Stylommatophora (terrestrial snails and slugs), and family Succineidae. Baker (1927, pp. 118-119) first described the fossil shell of the frigid ambersnail as a subspecies of Succinea grosvenorii (Baker 1927). Baker (1927) describes the fossil species as having a small (less than 10 mm (0.4 inches), elongated shell. The whorls (a single turn in the spiral of the shell) are convex and separated by deep sutures—the last whorl is small, flat-sided, and slightly convex. The spire (the part of the shell that consists of all of the whorls, except the body whorl) is long and acute with a rounded aperture (main opening of the shell) that is about half as long as the shell. The columella (central column inside the shell) is straight, gently curving to the parietal wall (margin of the aperture and part of the wall of the body whorl that is closest to the columella), and does not form a distinct angle. The slight callus (thickened calcareous deposit which may be present on the parietal wall of the aperture of the adult shell) is spread over the parietal wall. The sculpture (ornamentation on the outer surface of the shell) is fine with vertical striae (thin, narrow grooves).

Thirty-six years after Baker (1927) first described the species, the fossil form was reclassified as distinct from Succinea grosvenori and retained as a separate species named Catinella gelida by Leslie Hubricht (Hubricht 1963, pp. 137-138). As Hubricht (1963, p.137) stated: “This species [Succinea grosvenori gelida], is certainly not related to Succinea grosvenori as now understood. Some shells resemble a slender Catinella vermeta (Say), and others resemble shells of Catinella wandae (Webb) from Grand Teton National Park, Teton County, Wyoming, and it is possible that the name gelida has been applied to more than one species. In view of the impossibility of demonstrating the relationship to either of the above species by anatomical studies, Catinella gelida is here retained as a separate species.” As Hubricht states, identification of the fossil form used fossil shell characterics only.

In 1985, Terrence Frest (1985, p. 4) described what was thought to be the first live specimen of the frigid ambersnail from the carbonate cliffs of Iowa. The basis for his identification was geologic location and shell morphology. Prior to this, the species was thought to only occur in fossil form. What were thought to be additional relic populations were then identified in the Black Hills of South Dakota and south of Green Bay in Wisconsin (Frest and Johannes 2002, pp. 73-74).

Frest's (1991, p. 16) described the physical appearance of individuals in those relic populations by expanding on Baker's (1927, pp. 118-119) description of the fossil form of frigid ambersnail. However, Frest's (1991, p. 16) description still provides information on the shell only, stating that “Live specimens are slightly smaller on average than fossil (e.g., average length 7.0 rather than 7.0-8.0 mm), but otherwise identical. In life the color is a peculiar light yellow-green; the body is dark grey to nearly black. The sculpture on both fossil and recent specimens is rather stronger than in most Succineidae.”

A number of researchers (e.g., Patterson 1971, p. 133; Grimm 1996, p. 1; Coles and Walsh 1999, p. 32; Pigati et al. 2010, p. 5) have suggested that for accurate identification of species of living land snails within the Succineidae family, supporting anatomical information is critical in addition to morphological information. Patterson (1971, p. 133) stated the following in his taxonomic studies of the land snail's family Succineidae, “The taxonomic placement of most species of the Succineidae is still based largely on shell characters, which, because of little diversity and considerable convergence, give only fragmentary or unreliable aid in systematic analyses. Currently, features of the male and female reproductive tract, the radula and jaw, and to some extent, patterns of pigmentation, are being used to characterize some genera and species. However, to date, only a very few species have been studied with regard to such morphological characters, which leaves the systematics of the Succineidae in an inadequate and confused state.”

Grimm (1996, p. 1) and Coles and Walsh (1999, p. 32) also considered the use of additional anatomical features, such as genitalic structure, to be crucial for the accurate identification of extant Catinella species. Pigati et al. (2010, p. 5) recently described the need for additional morphological characteristics to distinguish among species for the Succineidae family and the genus Catinella: “In the fossil record, species-level identification of fossil shells is possible for most small terrestrial gastropods and, therefore, the results of our investigation of modern gastropods can be applied directly to the fossil record. An exception is the Succineidae family, which is composed of three genera (Catinella, Oxyloma, and Succinea) that are difficult to differentiate in modern faunas. Their simple shells exhibit few diagnostic characteristics and, therefore, species-level identification is based on soft-body reproductive organ morphology, which is rarely preserved in the fossil record.”

In 2002, Frest and Johannes acknowledged the difficulty of using a fossil form as the originally described specimen of frigid ambersnail to identify living individuals. However, they continued to support the species classification, stating that, “as it happens, shell characters of C. gelida are sufficiently distinctive as to make it unlikely to be confused with other described North American succineids. Preliminary dissections of specimens from the Iowa-Minnesota colonies confirm placement of those specimens in Catinella. The body color is unlike any other described species. The few live South Dakota specimens seen appear identical in morphology to those from Iowa” (Frest and Johannes 2002, p. 70). Although Frest and Johannes (2002, p. 7) have stated that fossil shell morphological characteristics alone were adequate to classify a living specimen, current researchers (such as Anderson (2005) and Nekola (2009, 2010) (see below)) do not support this assertion.

Anderson (2005) examined Catinella-like shells in Wind Cave National Park, South Dakota. In her analysis, she identified the Catinella specimens to genus level only, noting the conflicting opinion on the use of shell characteristics for identification to species level (Anderson 2005, p. 189). She cites Burch (1962) and Hoagland and Davis (1987) as cautioning against using such characteristics alone in identifying species in this taxonomic family.

Jeffrey Nekola is a professor with the University of New Mexico and is considered an expert in land snails, has authored numerous publications on the topic, and has field experience with fauna of the carbonate cliffs of Iowa and the surrounding area. Nekola indicated several issues with the classification of the living frigid ambersnail in response to our publication of a 90-day finding (74 FR 41649) and initiation of status review on a petition to list the frigid ambersnail (Catinella gelida) as endangered. Nekola (2010, pers. comm.) stated that there is not a published account of a dissection of the frigid ambersnail. Nekola has examined living snail soft body parts from ambersnails (from Nekola 1998 and 2003) that met the description of the fossil frigid ambersnail (as described by Frest 1991). He (Nekola pers. comm. 2010) subsequently analyzed this material and found the soft body parts to be similar to those found in the slope ambersnail (C. wandae). In addition, Nekola (2009, p. 103) questions the validity of using soft body parts for the taxonomic identification of species in this genus. He notes that the structure of the genitalia in this group of snails is highly variable and that, looking at genitalia, individuals may resemble different species as they pass through various stages of development from embryo to adult (Nekola 2009, p. 103). This is supported by Coles (2010, pers. comm.), who stated that based on his own work, the relative size and development of the male Catinella genital appendix can vary with age.

Because of the difficulty in defining characteristic soft parts, Nekola now believes that the only positive way to distinguish species in Catinella's group is to look at genetic data within and between populations, at the species and genus levels (Nekola 2009, p. 103). Ostlie (2009, p. 51) supports obtaining additional information, such as analysis of DNA, to confirm identification of the species.

Based on the best available current scientific information, the validity of the frigid ambersnail as an extant species has reasonably been questioned. The frigid ambersnail (Catinella gelida) is not recognized as a valid extant species or subspecies by the Integrated Taxonomic Information System (ITIS 2011) or the Council of Systematic Malacologists and the American Malacological Union (Turgeon et al. 1998, p. 143). Uncertainties regarding taxonomic classification remain not only for the genus Catinella, but also for members of the snail family Succineidae. In recent analyses, species designation for members of this family has been determined to be too questionable to differentiate the species using shell appearance and location alone (Burch 1962, p. 67; Hoagland and Davis 1987, pp. 518-519; Anderson 2005, p. 189; Nekola 2003b, p. 8; Barthel and Nekola 2000, p. 24). Furthermore, using soft body parts to identify species in this snail family also appears questionable, especially as the characteristics of those body parts change as the individuals mature (Nekola 2009, p. 103; Coles 2010, pers. comm.).

In summary, the taxonomic identity of the extant snails that have been referred to as the “frigid ambersnail” has been substantially questioned in recent years. While some individual researchers continue to recognize currently living individuals of ambersnail as Catinella gelida, this entity is not widely recognized as an extant species or subspecies by the scientific community at this time. The type of additional information that may permit a formal description may include a more thorough description of an extant type specimen, an evaluation of various lines of evidence (morphological, ecological, biogeographical, genetic) relevant to its taxonomic status, resolution of any discrepancies in taxonomic nomenclature, or a combination of these (e.g., Weaver 2006, pp. 49-65), and that the taxon be accepted as valid by widely recognized sources (e.g., Turgeon et al. 1998, entire; ITIS 2010).

Therefore, we find based on the best information available, that Catinella gelida is not a modern living (extant) species. Catinella gelida was described from a fossil, and the most current information now indicates that the currently living specimens that were classified as frigid ambersnail were likely misclassified, and are likely not Catinella gelida. The taxonomy of these living ambersnails is uncertain. Catinella gelida itself, as described from the fossil specimen, likely exists only in fossil form, and the currently living individuals likely belong to a different taxon. Therefore, we find that the currently living specimens, that were previously thought to be frigid ambersnail, are not valid taxonomically. Although additional study could affect the taxonomic conclusion of this finding, the taxonomic identity of the modern living (extant) frigid ambersnail has not been confirmed as of this date by current species experts.

Finding

We have carefully assessed the best scientific and commercial information available regarding the taxonomic status of the frigid ambersnail (Catinella gelida). We reviewed the petition, available published and unpublished scientific and commercial information, and information submitted to us during the information collection period on our status review following our 90-day finding. We also consulted with recognized experts. The frigid ambersnail is not recognized as an extant species or subspecies by the scientific community, and the taxonomic status of extant specimens is currently uncertain. The named petitioned entity, Catinella gelida, is extinct and only exists in fossil form. Modern, existing populations, that were originally described as C. gelida, are not C. gelida, and their taxonomic identity remains uncertain. Consequently, the Service does not at this time consider the petitioned entity, the frigid ambersnail, to be a listable entity under section 3(16) of the Act (16 U.S.C. 1532(16)). The Service encourages additional scientific investigations that will resolve the significant uncertainties concerning the taxonomy of frigid ambersnail. Because we have concluded the frigid ambersnail is not a listable entity, we will not further evaluate this ambersnail under section 4(a)(1) of the Act. On the basis of this review, we find that listing the frigid ambersnail as endangered or threatened is not warranted because the frigid ambersnail does not meet the definition of a “species” under the Act.

References Cited

A complete list of all references cited herein is available on the Internet at http://www.regulations.gov and upon request from the Field Supervisor at the Rock Island Ecological Services Office (see ADDRESSES section).

Author

The primary authors of this document are the staff members of the Rock Island Ecological Services Field Office, Moline, Illinois (see ADDRESSES section).

Authority: The authority for this action is the Endangered Species Act of 1973, as amended (16 U.S.C. 1531 et seq.).

Dated: July 13, 2011.
David Cottingham,
Acting Director, U.S. Fish and Wildlife Service.

[FR Doc. 2011-18855 Filed 7-25-11; 8:45 am]

BILLING CODE 4310-55-P